Proclamation 8645 of March 31, 2011

National Child Abuse Prevention Month, 2011

By the President of the United States of America

A Proclamation

Our Nation’s children are our hope for the future, and caring for them is one of our greatest responsibilities. During National Child Abuse Prevention Month, we renew our commitment to preventing child abuse and neglect by promoting healthy families, protecting children, and supporting communities throughout our Nation.

Although a strong family unit is the best deterrent to child abuse, effectively intervening in the lives of children threatened by abuse is a shared responsibility. Strengthening the bonds within families requires community members and leaders to partner with parents. From schools to local social service agencies, we can work together to protect the well-being of our children by recognizing the signs of violence and creating safe, stable, and nurturing environments that safeguard the promise of their futures.

My Administration will continue to reinforce initiatives that enhance the efforts of child protective service agencies to prevent and treat child abuse. Last December, I was pleased to sign into law the CAPTA (Child Abuse Prevention and Treatment) Reauthorization Act of 2010, giving States and local authorities new tools to identify and address abuse and neglect. This Act will also bolster prevention efforts by addressing risk factors for mistreatment like substance abuse, mental illness, and domestic violence. We are also supporting programs that expand coordination of early childhood services in order to improve outcomes for young children.

As a Nation, we must continue our work to ensure all children have the ability to live free from abuse and neglect by advocating for the safety of all young people. For more information about what families and communities can do to overcome this devastating problem, concerned Americans can visit: www.ChildWelfare.gov/Preventing.

NOW, THEREFORE, I, BARACK OBAMA, President of the United States of America, by virtue of the authority vested in me by the Constitution and the laws of the United States, do hereby proclaim April 2011 as National Child Abuse Prevention Month. I call upon all Americans to observe this month with programs and activities that help prevent child abuse and provide for children’s physical, emotional, and developmental needs.

IN WITNESS WHEREOF, I have hereunto set my hand this thirty-first day of March, in the year of our Lord two thousand eleven, and of the Independence of the United States of America the two hundred and thirty-fifth.

[FR Doc. 2011-8382

Filed 4-5-11; 11:15 am]

Billing code 3195-W1-P